DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 16, 2016. If you anticipate difficulty in submitting comments within that period, contact the person listed in ADDRESSES as soon as possible.

ADDRESSES: Written comments may be sent to Christine Askew, U.S. Department of Energy, EE-5W/Forrestal Building, 1000 Independence Ave. SW., Washington, DC 20585 or by fax at 202-287-1992, or by email at christine.askew@ee.doe.gov.

FOR FURTHER INFORMATION CONTACT: Requests for additional information or copies of the information collection instrument and instructions should be directed to Christine Askew at christine.askew@ee.doe.gov.

SUPPLEMENTARY INFORMATION: This information collection request contains: (1) OMB No. “1910-5127”; (2) Information Collection Request Title: “Weatherization Assistant Program (WAP)”; (3) Type of Review: New; (4) Purpose: To collect information on the status of grantee activities, expenditures, and results, to ensure that program funds are being used appropriately, effectively and expeditiously; (5) Annual Estimated Number of Respondents: 59; (6) Annual Estimated Number of Total Responses: 696; (7) Annual Estimated Number of Burden Hours: 2,088; (8) Annual Estimated Reporting and Recordkeeping Cost Burden: 0.

Authority: Title V, Subtitle E of the Energy Independence and Security Act (EISA), PL 110-140.

Issued in Washington, DC, on May 18, 2016.
Erica Burrin,
Acting Program Manager, Weatherization Assistance Program, Weatherization and Intergovernmental Program

[FR Doc. 2016-14387 Filed 6-16-16; 8:45 am]

BILLING CODE 6450-01-P